DEPARTMENT OF ENERGY

Federal Energy Regulatory Commission

Combined Notice of Filings #1

Take notice that the Commission received the following electric rate filings:

Docket Numbers: ER12-975-000.

Applicants: Cleco Evangeline LLC.

Description: Change to Add Ancillary Services to be effective 1/10/2012.

Filed Date: 2/2/12.

Accession Number: 20120202-5002.

Comments Due: 5 p.m. ET 2/23/12.

Docket Numbers: ER12-980-000.

Applicants: AEP Generation Resources Inc.

Description: 20120202 Tariff Database Cover Sheet to be effective 2/2/2012.

Filed Date: 2/2/12.

Accession Number: 20120202-5105.

Comments Due: 5 p.m. ET 2/23/12.

Docket Numbers: ER12-981-000.

Applicants: Southwest Power Pool, Inc.

Description: 1628R3 Western Farmers Electric Cooperative NITSA NOAS to be effective 4/1/2012.

Filed Date: 2/2/12.

Accession Number: 20120202-5106.

Comments Due: 5 p.m. ET 2/23/12.

Docket Numbers: ER12-982-000.

Applicants: Central Hudson Gas & Electric Corporation.

Description: FERC Rate Schedule 202—2011 Update to be effective 1/30/2012.

Filed Date: 2/3/12.

Accession Number: 20120203-5000.

Comments Due: 5 p.m. ET 2/24/12.

Docket Numbers: ER12-983-000.

Applicants: Avista Corporation.

Description: Avista Corp FERC Rate Schedule 532 to be effective 2/3/2012.

Filed Date: 2/3/12.

Accession Number: 20120203-5001.

Comments Due: 5 p.m. ET 2/24/12.

Docket Numbers: ER12-985-000.

Applicants: Southwest Power Pool, Inc.

Description: Southwest Power Pool, Inc.'s Notice of Cancellation.

Filed Date: 2/2/12.

Accession Number: 20120202-5122.

Comments Due: 5 p.m. ET 2/23/12.

Take notice that the Commission received the following electric securities filings:

Docket Numbers: ES12-20-000.

Applicants: Southwest Power Pool, Inc.

Description: Application of Southwest Power Pool, Inc. under Section 204 of the Federal Power Act for an Order Authorizing the Issuance of Securities.

Filed Date: 2/2/12.

Accession Number: 20120202-5119.

Comments Due: 5 p.m. ET 2/23/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2012.
Nathaniel J. Davis, Sr.,
Deputy Secretary.

[FR Doc. 2012-3111 Filed 2-9-12; 8:45 am]

BILLING CODE 6717-01-P